FEDERAL COMMUNICATIONS COMMISSION

[Report No. 2474]

Petition for Reconsideration and Clarification of Action in Rulemaking Proceeding

March 23, 2001.

Petitions for Reconsideration and Clarification has been filed in the Commission's rulemaking proceeding listed in this Public Notice and published pursuant to 47 CFR section 1.429(e). The full text of this document is available for viewing and copying in Room CY-A257, 445 12th Street, S.W., Washington, D.C. or may be purchased from the Commission's copy contractor, ITS, Inc. (202) 857-3800. Oppositions to this petition must be filed by April 17, 2001. See section 1.4(b)(1) of the Commission's rules (47 CFR 1.4(b)(1)). Replies to an opposition must be filed within 10 days after the time for filing oppositions have expired.

Subject: Amendment of section 95.413(a)(9) CB Rule 13 Prohibition of Communications or Attempts to Communicate with Citizens Band Stations More Than 250 Kilometers (155.3 Miles) Away. (RM-9807).

Number of Petitions Filed: 1.

Federal Communications Commission.
Magalie Roman Salas,
Secretary.

[FR Doc. 01-7999 Filed 3-30-01; 8:45 am]

BILLING CODE 6712-01-M